DEPARTMENT OF THE INTERIOR

Bureau of Land Management

[15X LLWO120920.L16300000.NU0000.241A; 4500077785]

Notice of Extension of Public Comment Period for Proposed Idaho Statewide Supplementary Rules

AGENCY: Bureau of Land Management, Interior.

ACTION: Notice of extension.

SUMMARY: The Bureau of Land Management (BLM) published a Notice of Proposed Supplementary Rules in the Federal Register on February 3, 2015 [80 FR 5781] and announced the beginning of a 60-day public comment period. In response to technical difficulties with one of the methods for taking comments, the BLM is extending the public comment period for the Proposed Supplementary Rules until May 5, 2015.

DATES: The comment period is extended to May 5, 2015.

ADDRESSES: Please mail or hand-deliver comments to Keith McGrath, State Chief Law Enforcement Ranger, Bureau of Land Management, Idaho State Office, 1387 S. Vinnell Way, Boise, Idaho 83709; or email comments to BLM_ID_LE_SUPPRULES@blm.gov.

FOR FURTHER INFORMATION CONTACT: Keith McGrath, Bureau of Land Management, (208) 373-4046, KMcGrath@blm.gov. Persons who use a telecommunications device for the deaf (TDD) may contact Mr. McGrath by calling the Federal Information Relay Service (FIRS) at (800) 877-8339, 24 hours a day, 7 days a week. You will receive a reply during normal business hours.

SUPPLEMENTARY INFORMATION: The supplementary rules are proposed to promote consistency between State and Federal regulations with respect to certain uses of Federal lands under BLM jurisdiction in Idaho. The supplementary rules would allow BLM law enforcement personnel and partner agencies to address gaps in current regulations, to continue enforcing existing public land regulations in a manner consistent with current State of Idaho statutes, and would provide more clarity for public land users, especially visitors to BLM recreation areas.

The original notice containing the proposed supplementary rules included the email address BLM_ID_LE_SUPPRULES@blm.gov as one of three ways to submit written comments on the Proposed Supplementary Rules. A 60-day comment period began on February 3, 2015, the day the notice was published in the Federal Register. The notice advised that the BLM would accept written comments by any of the three methods listed until April 6, 2015. A name, phone number and additional email address were also provided as a point of contact for further information. On March 12, 2015, the BLM became aware that the email account for submitting comments was not activated and therefore could not be used to submit comments. The email address was activated the same day, leaving 26 days in the original comment period. As a result, the BLM is extending the comment period until May 5, 2015, to ensure adequate time for those who wish to submit comments to do so. Any of the three methods listed in the ADDRESSES section of this notice may be used to submit comments until that date. The BLM is not obligated to consider comments postmarked or received in person or by electronic mail after May 5, 2015.

Before including your address, phone number, email address, or other personal identifying information, be aware that your comment—including your personal identifying information—may be made publicly available at any time. While you can ask us in your comment to withhold your personal identifying information from public review, we cannot guarantee we will be able to do so.

Authority: 43 CFR 8365.1-6

Peter J. Ditton,
Acting BLM Idaho State Director.

[FR Doc. 2015-07806 Filed 4-3-15; 8:45 am]

BILLING CODE 4310-GG-P